DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

The ImmunoChip

Matthias Lorenz (NCI)

DHHS Reference No. E-288-00/0 filed 29 Dec 2000

Licensing Contact: Richard Rodriguez; 301/496-7056 ext. 287; e-mail: rodrigur@od.nih.gov.

The inventors have established a method to select sequences from databases for the construction of custom microarrays. Using this method, an immunological relevant microarray (ImmunoChip) was constructed. The ImmunoChip is a cDNA microarray which contains more than 13,000 different murine immunological-relevant genetic probes. The ImmunoChip can be used to study gene expression of immune cells or immune infiltrating tissues and organs. Specifically, the chip could be used for immunologically related research and/or vaccine development for a variety of human diseases which would include, but not necessarily limited to, cancer, infectious diseases, autoimmune diseases and allergies.

Water Soluble Amino Acid Analogs of Aminoflavone Compounds

Kenneth M. Snader et al. (NCI)

DHHS Reference No. E-279-99/0 filed 06 Apr 2000

Licensing Contact: Girish Barua; 301/496-7735 ext. 263; e-mail: baruag@od.nih.gov.

Many potential drugs of cancer chemotherapy intended for parenteral administration have been abandoned because the active ingredient is either slightly soluble or water-insoluble. Various methods have been developed to improve water solubility of these drugs. However, these methods can be complex and have a negative impact resulting from the use of co-solvents and complexing agents. The present invention addresses these problems by providing a method of producing water-soluble analogues of water-insoluble drugs.

In particular, the present invention describes novel analogues derived from 5-aminoflavone (TK2339) compounds. These derivatives have shown good differential activity in the NCI 60-cell line in vitro cancer drug screen with potent and selective cytotoxicity against CAKI-1 and A498 renal, MCF-7 breast, and OVCAR-5 ovarian carcinoma cell lines. In addition, these derivatives have shown in vivo activity against CAKI-1 and A498 renal carcinoma xenographs.

To overcome poor solubility of many members of the flavone class of compounds, a series of more hydrophilic, polar conjugates were prepared which are capable of forming soluble salts. These novel compounds display improved solubility in aqueous solutions over the parent compound without sacrificing potent antitumor activity. Since these compounds possess very favorable pharmaceutical properties, they have the greater potential to be useful in the treatment of human cancers.

Dated: February 2, 2001.
Jack Spiegel,
Director, Division of Technology, Development and Transfer, Office of Technology Transfer, National Institutes of Health.

[FR Doc. 01-3606 Filed 2-12-01; 8:45 am]

BILLING CODE 4140-01-P